DEPARTMENT OF EDUCATION

Office of Special Education and Rehabilitative Services; Overview Information; Rehabilitation Training: Rehabilitation Long-Term Training Notice Inviting Applications for New Awards for Fiscal Year (FY) 2010

Catalog of Federal Domestic Assistance (CFDA) Numbers: 84.129 B, C, E, F, H, J, P, Q, R, and W.

Note: This notice invites applications for 10 separate competitions. For funding information regarding each of the 10 competitions, refer to the chart under Award Information in section II of this notice.

Dates: Applications Available: April 23, 2010.

Deadline for Transmittal of Applications: June 7, 2010.

Deadline for Intergovernmental Review: August 6, 2010.

Full Text of Announcement

I. Funding Opportunity Description

Purpose of Program: The Rehabilitation Long-Term Training program provides financial assistance for—

(1) Projects that provide basic or advanced training leading to an academic degree in areas of personnel shortages in rehabilitation as identified by the Secretary;

(2) Projects that provide a specified series of courses or program of study leading to the award of a certificate in areas of personnel shortages in rehabilitation as identified by the Secretary; and

(3) Projects that provide support for medical residents enrolled in residency training programs in the specialty of physical medicine and rehabilitation.

Priorities: This notice includes three absolute priorities and one competitive preference priority. In order to receive funding under any of the competitions announced in this notice, an applicant must meet Absolute Priority 1. An applicant for funding under CFDA No. 84.129B (Rehabilitation Counseling) also must meet Absolute Priority 2, and an applicant for funding under CFDA No. 84.129W (Comprehensive System of Personnel Development) also must meet Absolute Priority 3. The competitive preference priority applies to all competitions announced in this notice.

Absolute Priority 1: In accordance with 34 CFR 75.105(b)(2)(ii), this priority is from 34 CFR 386.1. For FY 2010 and any subsequent year in which we make awards from the list of unfunded applicants from these competitions, this priority is an absolute priority. Under 34 CFR 75.105(c)(3) we consider only applications that meet this priority.

This priority is:

Rehabilitation Long-Term Training programs designed to provide academic training in areas of personnel shortages.

Under 34 CFR 75.105(c)(3), for each competition, we consider only applications that propose to provide training in the priority areas of personnel shortages listed in the following chart.

CFDA No. | Priority area
84.129B | Rehabilitation Counseling.
84.129C | Rehabilitation Administration.
84.129E | Rehabilitation Technology.
84.129F | Vocational Evaluation and Work Adjustment.
84.129H | Rehabilitation of Individuals Who are Mentally Ill.
84.129J | Rehabilitation Psychology.
84.129P | Specialized Personnel for Rehabilitation of Individuals who are Blind or Have Vision Impairments.
84.129Q | Rehabilitation of Individuals Who are Deaf or Hard of Hearing.
84.129R | Job Development and Job Placement Services to Individuals with Disabilities.
84.129W | Comprehensive System of Personnel Development.

Absolute Priority 2 (CFDA No. 84.129B): This priority is from the notice of final priority for this program, published in the Federal Register on January 15, 2003 (68 FR 2166). For FY 2010 and any subsequent year in which we make awards from the list of unfunded applicants from the competition for CFDA No. 84.129B, this priority is an absolute priority. Under 34 CFR 75.105(c)(3), for this competition, we consider only applications that meet this absolute priority and Absolute Priority 1.

This priority is:

Partnership with the State Vocational Rehabilitation Agency (84.129B—Rehabilitation Counseling).

This priority supports projects that will increase the knowledge of students of the role and responsibilities of the vocational rehabilitation (VR) counselor and of the benefits of counseling in State VR agencies. This priority focuses attention on and intends to strengthen the unique role of rehabilitation educators and State VR agencies in the preparation of qualified VR counselors by increasing or creating ongoing collaboration between institutions of higher education and State VR agencies.

Projects funded under this priority must include within the degree program information about and experience in the State VR system. Projects must include partnering activities for students with the State VR agency including experiential activities, such as formal internships or practicum agreements. In addition, experiential activities for students with community-based rehabilitation service providers are encouraged.

Projects must include an evaluation of the impact of project activities.

Absolute Priority 3 (CFDA No. 84.129W—Comprehensive System of Personnel Development): This priority is from the notice of final priority for this program, published in the Federal Register on October 16, 1998 (63 FR 55764). For FY 2010 and any subsequent year in which we make awards from the list of unfunded applicants from the competition for CFDA No. 84.129W, this priority is an absolute priority. Under 34 CFR 75.105(c)(3), for this competition, we consider only applications that meet this absolute priority and Absolute Priority 1.

This priority is:

Comprehensive System of Personnel Development (84.129W).

Projects must—

(1) Provide training leading to academic degrees or academic certificates to current vocational rehabilitation (VR) counselors, including counselors with disabilities, ethnic minorities, and those from diverse backgrounds, toward meeting designated State unit (DSU) personnel standards required under section 101(a)(7) of the Rehabilitation Act of 1973, as amended, commonly referred to as the Comprehensive System of Personnel Development (CSPD);

(2) Address the academic degree and academic certificate needs specified in the CSPD plans of those States with which the project will be working; and

(3) Develop innovative approaches (e.g., distance learning, competency-based programs, and other methods) that would maximize participation in, and the effectiveness of, project training.

Competitive Preference Priority: This priority is from 34 CFR 75.225. For FY 2010 and any subsequent year in which we make awards from the list of unfunded applicants from any one of these competitions, this priority is a competitive preference priority and is limited to institutions of higher learning. Under 34 CFR 75.105(c)(2)(i) we award an additional 10 points to an application that meets this priority.

This priority is:

Institutions of higher education that meet the definition of novice applicant.

To meet this priority, an applicant must be an institution of higher education that meets the definition of novice applicant in 34 CFR 75.225. To meet this definition of novice applicant, the applicant must—

1. Have never received a grant or subgrant under the Rehabilitation Training: Rehabilitation Long-Term Training program;

2. Have never been a member of a group application, submitted in accordance with sections 34 CFR 75.127-75.129, that received a grant under the Rehabilitation Training: Rehabilitation Long-Term Training program; and

3. Have not had an active discretionary grant from the Federal Government in the five years before the deadline date for applications under the Rehabilitation Training: Rehabilitation Long-Term Training program. A grant is considered active until the end of the grant's project or funding period, including any extensions of these periods that extend the grantee's authority to obligate funds.

Program Authority: 29 U.S.C. 772.

Applicable Regulations: (a) The Education Department General Administrative Regulations (EDGAR) in 34 CFR parts 74, 75, 77, 79, 80, 81, 82, 84, 85, 86, and 99. (b) The regulations for this program in 34 CFR parts 385 and 386. (c) The notice of final priority for this program, published in the Federal Register on January 15, 2003 (68 FR 2166). (d) The notice of final priority for this program, published in the Federal Register on October 16, 1998 (63 FR 55764).

Note: The regulations in 34 CFR part 79 apply to all applicants except Federally recognized Indian Tribes.

Note: The regulations in 34 CFR part 86 apply to institutions of higher education only.

II. Award Information

Type of Awards: Discretionary grants.

Estimated Available Funds: $6,450,000.

Note: Please refer to the “Maximum Award” column of the chart in this section for the estimated dollar amounts for individual competitions.

Contingent upon the availability of funds and the quality of applications for the competitions announced in this notice, we may make additional awards in FY 2010 from the lists of unfunded applicants from individual competitions.

Estimated Range of Awards: $70,000-$150,000.

Estimated Average Size of Awards: $100,000.

Maximum Award: See chart.

Estimated Number of Awards: See chart.

Project Period: Up to 60 months.

Rehabilitation Long-Term Training Program Application Notice for Fiscal Year 2010
CFDA Number | Priority area | Maximum award (per budget year) | Estimated number of awards
84.129B | Rehabilitation Counseling | $150,000 | 25
84.129C | Rehabilitation Administration | 100,000 | 1
84.129E | Rehabilitation Technology | 100,000 | 2
84.129F | Vocational Evaluation and Work Adjustment | 100,000 | 2
84.129H | Rehabilitation of Individuals Who are Mentally Ill | 100,000 | 5
84.129J | Rehabilitation Psychology | 100,000 | 2
84.129P | Specialized Personnel for Rehabilitation of Individuals who are Blind or Have Vision Impairments | 100,000 | 3
84.129Q | Rehabilitation of Individuals Who are Deaf or Hard of Hearing | 100,000 | 4
84.129R | Job Development and Job Placement Services to Individuals with Disabilities | 100,000 | 2
84.129W | Comprehensive System of Personnel Development | 100,000 | 6

We will reject any application that proposes a budget exceeding the maximum amount for each individual competition for a single budget period of 12 months. For projects funded under 84.129B, the maximum amount for a single budget period of 12 months is $150,000. For all other competitions in this notice, the maximum amount is $100,000 for a single budget period of 12 months. The Assistant Secretary for Special Education and Rehabilitative Services may change the maximum amount through a notice published in the Federal Register.

Note: The Department is not bound by any estimates in this notice. The Secretary may decide to increase or decrease the number of grants awarded in each specific priority area based on factors such as the quality of the applications received.

III. Eligibility Information

1. Eligible Applicants: States and public or nonprofit agencies and organizations, including Indian Tribes and institutions of higher education.

2. Cost Sharing or Matching: Cost sharing of at least 10 percent of the total cost of the project is required of grantees under the Rehabilitation Long-Term Training program. The Secretary may waive part of the non-Federal share of the cost of the project after negotiations if the applicant demonstrates that it does not have sufficient resources to contribute the entire match (34 CFR 386.30).

Note: Under 34 CFR 75.562(c), an indirect cost reimbursement on a training grant is limited to the recipient's actual indirect costs, as determined by its negotiated indirect cost rate agreement, or eight percent of a modified total direct cost base, whichever amount is less. Indirect costs in excess of the limit may not be charged directly, used to satisfy matching or cost-sharing requirements, or charged to another Federal award.

IV. Application and Submission Information

1. Address to Request Application Package: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify the competition as follows: CFDA number 84.129 B, C, E, F, H, J, P, Q, R, or W.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for the competition.

Page Limit: The application narrative (Part III of the application) is where you, the applicant, address the selection criteria that reviewers use to evaluate your application. You must limit the application narrative (Part III) to the equivalent of no more than 45 pages, using the following standards:

• A “page” is 8.5 × 11, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit; or if you apply other standards and exceed the equivalent of the page limit.

3. Submission Dates and Times:

Applications Available: April 23, 2010.

Deadline for Transmittal of Applications: June 7, 2010.

Applications for grants under these competitions must be submitted electronically using the Electronic Grant Application System (e-Application) accessible through the Department's e-Grants site. For information (including dates and times) about how to submit your application electronically, or in paper format by mail or hand delivery if you qualify for an exception to the electronic submission requirement, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 6, 2010.

4. Intergovernmental Review: This program is subject to Executive Order 12372 and the regulations in 34 CFR part 79. Information about Intergovernmental Review of Federal Programs under Executive Order 12372 is in the application packages for these competitions.

5. Funding Restrictions: We reference regulations outlining funding restrictions in the Applicable Regulations section of this notice.

6. Other Submission Requirements: Applications for grants under these competitions must be submitted electronically unless you qualify for an exception to this requirement in accordance with the instructions in this section.

a. Electronic Submission of Applications

Applications for grants under the Rehabilitation Training: Rehabilitation Long-Term Training competitions—CFDA Numbers 84.129 B, C, E, F, H, J, P, Q, R, and W must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for these competitions after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page-limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for the competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application;

and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Traci DiMartini, U.S. Department of Education, 400 Maryland Avenue, SW., room 5027, Potomac Center Plaza (PCP), Washington, DC 20202-2800. FAX: (202) 245-7591.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: CFDA Number 84.129 B, C, E, F, H, J, P, Q, R, or W, LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application, by hand, on or before the application deadline date, to the Department at the following address: U.S. Department of Education, Application Control Center, Attention: CFDA Number 84.129 B, C, E, F, H, J, P, Q, R, or W, 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for these competitions are from 34 CFR 75.210 and 34 CFR 386.20 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Government Performance and Results Act (GPRA) of 1993 directs Federal departments and agencies to improve the effectiveness of programs by engaging in strategic planning, setting outcome-related goals for programs, and measuring program results against those goals.

The goal of the Rehabilitation Services Administration's (RSA) Rehabilitation Training: Rehabilitation Long-Term Training program is to increase the number of qualified VR personnel, including counselors and other professional staff, working in State VR or related agencies. At least 75 percent of all grant funds must be used for direct payment of student scholarships.

Grantees are required to track current and former RSA scholars and maintain accurate information on them from the time they are enrolled in the program until they successfully meet their payback requirements. Specifically, each grantee is required to maintain information on the cumulative support granted to RSA scholars, scholar debt in years, program completion date and reason for exit for each scholar, dates each scholar's work begins and is completed to meet his or her payback agreement, type of employment scholars attain, all current contact information for scholars including home address, and the place of employment of individual scholars.

Grantees are required to report annually to RSA on these data elements using the RSA Grantee Reporting Form, OMB number 1820-0617, an electronic reporting system supported by the RSA Management Information System (RSA MIS). The RSA Grantee Reporting Form collects specific data, including the number of RSA scholars entering the rehabilitation workforce, the rehabilitation field each scholar enters, and the type of employment setting each scholar chooses (e.g., State agency, nonprofit service provider, or practice group). This form allows RSA to measure results against the goal of increasing the number of qualified VR personnel working in State VR and related agencies.

All Rehabilitation Long-Term Training grantees must also submit information in their annual report that details their relationship with State VR agencies including any information demonstrating articulation agreements, internships for RSA scholars, or employment of program graduates in the State VR agency.

VII. Agency Contact

FOR FURTHER INFORMATION CONTACT: Traci DiMartini, U.S. Department of Education, Rehabilitation Services Administration, 400 Maryland Avenue, SW., room 5027, PCP, Washington, DC 20202-2800. Telephone: (202) 245-6425 or by e-mail: Traci.DiMartini@ed.gov.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Service Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 20, 2010.
Alexa Posny,
Assistant Secretary for Special Education and Rehabilitative Services.

[FR Doc. 2010-9508 Filed 4-22-10; 8:45 am]

BILLING CODE 4000-01-P